DEPARTMENT OF COMMERCE

International Trade Administration

[A-201-838]

Seamless Refined Copper Pipe and Tube From Mexico: Final Results of Antidumping Duty New Shipper Review

AGENCY: Import Administration, International Trade Administration, Department of Commerce.

SUMMARY: On April 27, 2012, the Department of Commerce (“Department”) published in the Federal Register the preliminary results of the new shipper review of the antidumping duty order on seamless refined copper tube and pipe from Mexico.¹ This review covers one producer and exporter, GD Affiliates S. de R.L. de C.V. (Golden Dragon).² We gave interested parties an opportunity to comment on the Preliminary Results and, based upon our analysis of the comments, we have made changes to the margin calculation for the final results of this new shipper review. Golden Dragon's final weighted-average dumping margin is listed below in the “Final Results of Review” section of this notice. The period of review (“POR”) is November 22, 2010, through April 30, 2011.

¹ Seamless Refined Copper Pipe and Tube From Mexico: Preliminary Results of Antidumping Duty New Shipper Review, 77 FR 25136 (April 27, 2012) (“Preliminary Results”).

² As noted in the Preliminary Results, we use the name Golden Dragon when we refer to the collective group of Golden Dragon companies, which includes GD Affiliates S. de R.L. de C.V. who requested the review.

DATES: Effective Date: September 26, 2012.

FOR FURTHER INFORMATION CONTACT: Dennis McClure, AD/CVD Operations, Office 3, Import Administration, International Trade Administration, U.S. Department of Commerce, 14th Street and Constitution Avenue NW., Washington, DC 20230; telephone: (202) 482-5973.

SUPPLEMENTARY INFORMATION:

Background

On April 27, 2012, the Department published in the Federal Register the Preliminary Results of the new shipper review of the antidumping duty order on seamless copper pipe and tube from Mexico. We invited parties to comment on the Preliminary Results. We received comments from the Petitioners ³ on May 30, 2012. We received rebuttal comments from Golden Dragon on June 4, 2012. On June 19, 2012, the Department extended the deadline for the final until September 20, 2012.⁴

³ Cerro Flow Products, LLC, Wieland Copper Products, LLC, Mueller Copper Tube Products, Inc. and Mueller Copper Tube Company, Inc. (collectively, “the Petitioners”).

⁴ Memorandum to Christian Marsh, from Dennis McClure, Re: Seamless Refined Copper Pipe and Tube from Mexico: Extension of Deadline for Final Results of Antidumping Duty New Shipper Review, dated, June 19, 2012.

Scope of the Order

For the purpose of the order, the products covered are all seamless circular refined copper pipes and tubes, including redraw hollows, greater than or equal to 6 inches (152.4 mm) in length and measuring less than 12.130 inches (308.102 mm) (actual) in outside diameter (“OD”), regardless of wall thickness, bore (e.g., smooth, enhanced with inner grooves or ridges), manufacturing process (e.g., hot finished, cold-drawn, annealed), outer surface (e.g., plain or enhanced with grooves, ridges, fins, or gills), end finish (e.g., plain end, swaged end, flared end, expanded end, crimped end, threaded), coating (e.g., plastic, paint), insulation, attachments (e.g., plain, capped, plugged, with compression or other fitting), or physical configuration (e.g., straight, coiled, bent, wound on spools).

The scope of the order covers, but is not limited to, seamless refined copper pipe and tube produced or comparable to the American Society for Testing and Materials (“ASTM”) ASTM-B42, ASTM-B68, ASTM-B75, ASTM-B88, ASTM-B88M, ASTM-B188, ASTM-B251, ASTM-B251M, ASTM-B280, ASTM-B302, ASTM-B306, ASTM-359, ASTM-B743, ASTM-B819, and ASTM-B903 specifications and meeting the physical parameters described therein. Also included within the scope of the order are all sets of covered products, including “line sets” of seamless refined copper tubes (with or without fittings or insulation) suitable for connecting an outdoor air conditioner or heat pump to an indoor evaporator unit. The phrase “all sets of covered products” denotes any combination of items put up for sale that is comprised of merchandise subject to the scope.

“Refined copper” is defined as: (1) Metal containing at least 99.85 percent by weight of copper; or (2) metal containing at least 97.5 percent by weight of copper, provided that the content by weight of any other element does not exceed the following limits:

Element | Limiting content percent by weight
Ag—Silver | 0.25
As—Arsenic | 0.5
Cd—Cadmium | 1.3
Cr—Chromium | 1.4
Mg—Magnesium | 0.8
Pb—Lead | 1.5
S—Sulfur | 0.7
Sn—Tin | 0.8
Te—Tellurium | 0.8
Zn—Zinc | 1.0
Zr—Zirconium | 0.3
Other elements (each) | 0.3

Excluded from the scope of the order are all seamless circular hollows of refined copper less than 12 inches in length whose OD (actual) exceeds its length. The products subject to the order are currently classifiable under subheadings 7411.10.1030 and 7411.10.1090 of the Harmonized Tariff Schedule of the United States (“HTSUS”). Products subject to the order may also enter under HTSUS subheadings 7407.10.1500, 7419.99.5050, 8415.90.8065, and 8415.90.8085. Although the HTSUS subheadings are provided for convenience and customs purposes, the written description of the scope of the order is dispositive.

Analysis of Comments Received

All issues raised in the case and rebuttal briefs by parties are addressed in the “Seamless Refined Copper Pipe and Tube from Mexico: Issues and Decision Memorandum for the Final Results of the New Shipper Review” (“Decision Memorandum”), dated concurrently with this notice and which is hereby adopted by this notice. A list of the issues which parties raised is attached to this notice as an Appendix. Parties can find a complete discussion of all issues raised in this new shipper review and the corresponding recommendation in this public memorandum which is on file electronically via Import Administration's Antidumping and Countervailing Duty Centralized Electronic Service System (IA ACCESS). IA ACCESS is available to registered users at http://iaaccess.trade.gov and in the Central Records Unit (“CRU”), room 7046 of the main Department of Commerce building. In addition, a complete version of the Decision Memorandum can be accessed directly on the internet at http://www.trade.gov/ia/. The signed Decision Memorandum and the electronic versions of the Decision Memorandum are identical in content.

Based on a review of the record and comments received from interested parties regarding our Preliminary Results, we have made changes to the margin calculation for Golden Dragon. See the Decision Memorandum for a complete explanation of the Department's decision.

Final Results of New Shipper Review

As a result of our review, we determine that the following weighted-average dumping margin exists for Golden Dragon for the period November 22, 2010, through April 30, 2011:

Manufacturer/exporter | Weighted-average dumping margin (percent)
Golden Dragon ⁵ | 5.53

Assessment Rate

The Department will determine, and U.S. Customs and Border Protection (“CBP”) shall assess, antidumping duties on all appropriate entries. The Department intends to issue assessment instructions to CBP 15 days after the date of publication of the final results of review.

Golden Dragon's weighted-average dumping margin is above de minimis in the final results of this review, and, therefore we have calculated importer-specific (or customer-specific) ad valorem antidumping duty assessment rates. Where the assessment rate is above de minimis, we will instruct CBP to assess duties on all entries of subject merchandise by that importer.

⁵ Golden Dragon includes GD Affiliates S. de R.L. de C.V.

Cash Deposit Requirements

The following cash deposit requirements will be effective upon publication of the final results of this new shipper review for all shipments of the subject merchandise by Golden Dragon entered, or withdrawn from warehouse, for consumption on or after the publication date of these final results, consistent with section 751(a)(2)(C) of the Act: (1) For subject merchandise manufactured and exported by Golden Dragon, the cash deposit rate will be 5.53 percent; (2) for subject merchandise exported by Golden Dragon but not manufactured by Golden Dragon, the cash deposit rate will be the all others rate (i.e., 26.03 percent); (3) for subject merchandise manufactured by Golden Dragon but exported by any party other than Golden Dragon, the cash deposit rate will be the all others rate. These requirements, when imposed, shall remain in effect until further notice.

Further, effective upon publication of the final results, we intend to instruct CBP that importers may no longer post a bond or other security in lieu of a cash deposit on imports of seamless refined copper pipe and tube from Mexico, manufactured and exported by Golden Dragon. These cash deposit requirements, when imposed, shall remain in effect until further notice.

Notifications to Interested Parties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

In accordance with 19 CFR 351.305(a)(3), this notice also serves as a reminder to parties subject to administrative protective order (“APO”) of their responsibility concerning the return or destruction of proprietary information disclosed under the APO, which continues to govern business proprietary information in this segment of the proceeding. Timely written notification of the return/destruction of APO materials or conversion to judicial protective order is hereby requested. Failure to comply with the regulations and terms of an APO is a violation subject to sanction.

We are issuing and publishing this new shipper review and notice in accordance with sections 751(a)(1) and 777(i) of the Act.

Dated: September 20, 2012.
Paul Piquado,
Assistant Secretary for Import Administration.

Appendix I—Issues and Decision Memorandum

Comment 1: Date of Sale

Comment 2: Adjustment to U.S. Price

Comment 3: Entitlement to New Shipper Review

[FR Doc. 2012-23686 Filed 9-25-12; 8:45 am]

BILLING CODE 3510-DS-P